DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing an update to the identifying information of a person currently included in OFAC's Specially Designated Nationals and Blocked Persons List.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On March 7, 2018 OFAC updated the SDN List for the following person, whose property and interests in property continue to be blocked under the relevant sanctions authority listed below.

Entity

EMPRESA CUBANA DE PESCADOS Y MARISCOS (a.k.a. CARIBBEAN EXPORT ENTERPRISE; a.k.a. CARIBEX), Paris, France; Milan, Italy; Moscow, Russia; Madrid, Spain; Cologne, Germany; Downsview, Ontario, Canada; Tokyo, Japan [CUBA]

-to-

EMPRESA CUBANA DE PESCADOS Y MARISCOS (a.k.a. CARIBBEAN EXPORT ENTERPRISE; a.k.a. “CARIBEX”), Paris, France; Milan, Italy; Moscow, Russia; Madrid, Spain; Cologne, Germany; Downsview, Ontario, Canada; Tokyo, Japan [CUBA].

Designated pursuant to the Cuban Assets Control Regulations, 31 CFR part 515.

Dated: March 7, 2018.
Gregory T. Gatjanis,
Associate Director, Office of Global Targeting, Office of Foreign Assets Control.

[FR Doc. 2018-04981 Filed 3-12-18; 8:45 am]

BILLING CODE 4810-AL-P